DEPARTMENT OF AGRICULTURE

Forest Service

Interim Direction on Forest Service Challenge Cost Share Agreements

AGENCY: Forest Service, USDA.

ACTION: Notice of availability of agency directive.

SUMMARY: The Forest Service is issuing an interim directive to provide internal guidance to its employees in implementing the cost share portion of the challenge cost share program, authorized by Public Law 102-154. This interim directive clarifies that there is no fixed match requirement, pursuant to the law, and that the Forest Service intends each cooperative agreement under the challenge cost share program should require each party to achieve benefits commensurate with the resources expended. This interim directive is issued to the Forest Service Manual Title 1500, External Relations, Chapter 1580, Grants, Cooperative Agreements, and Other Agreements, as ID number 1580-2002-2.

DATES: The interim directive is effective November 12, 2002.

ADDRESSES: The interim directive is available electronically from the Forest Service via the World Wide Web/Internet at http://www.fs.fed.us/im/directives. Single paper copies of the interim directive also are available by contacting the Forest Service, USDA, Acquisition Management Staff, 1323 Club Drive—Mare Island, Vallejo, CA 94592 (telephone 707-562-8902).

FOR FURTHER INFORMATION CONTACT: Dave Allasia, Acquisition Management Staff (707-562-8902).

Dated: November 1, 2002.
Dale N. Bosworth,
Chief.

[FR Doc. 02-28612 Filed 11-8-02; 8:45 am]

BILLING CODE 3410-11-P